DEPARTMENT OF COMMERCE

National Oceanic and Atmospheric Administration

Announcement of Notice To Re-Solicit Proposals for the National Coastal and Estuarine Research and Technology Program (NCERT)

AGENCY: Estuarine Reserves Division, Office of Ocean and Coastal Resource Management, National Ocean Service, National Oceanic and Atmospheric Administration, U.S. Department of Commerce.

ACTION: Notice of National Coastal and Estuarine Research and Technology Program: Request for Resubmissions.

SUMMARY: The National Oceanic and Atmospheric Administration (NOAA) publishes this notice to re-solicit proposals for the National Coastal and Estuarine Research and Technology Program (NCERT). This notice provides further information regarding the Summary Description, Program Priorities, Funding Availability, and the Review and Selection Process for the program. Any proposals that were submitted to the initial solicitation must be re-submitted by the new deadline to be considered for an award. New proposals are also eligible for funding.

DATES: Applications must be received by 5 p.m. Eastern Time on December 8, 2008. Applications received after the deadline will be returned to the sender without further consideration. No facsimile or electronic mail applications will be accepted.

Addresses for Submitting Proposals: Applications must be submitted through http://www.grants.gov, unless an applicant does not have Internet access. In that case, hard copies with original signatures may be sent to Marie Bundy, 1305 East-West Highway, N/ORM5, SSMC4 10542, Silver Spring, MD 20910.

FOR FURTHER INFORMATION CONTACT: Marie Bundy, 1305 East-West Highway, N/ORM5, SSMC4 10542, Silver Spring, MD 20910; or by Phone at (301) 713-3155 ext. 101, or fax at (301) 713-4012, or via E-mail at marie.bundy@noaa.gov.

SUPPLEMENTARY INFORMATION: CFDA: Funding Opportunity Number: NOS-OCRM-2009-2001493, Catalog of Federal Domestic Assistance (CFDA) Number: 11.419, Coastal Zone Management Administration Awards.

NOAA publishes this notice to re-solicit proposals for the National Coastal and Estuarine Research and Technology Program (NCERT). The program originally solicited applications in the Federal Register on July 11, 2008 (73 FR 40052). However, the program has amended the Summary Description, Program Priorities, Funding Availability, and the Review and Selection Process to provide more detailed information concerning the objectives of the program, the amount of funding that has been identified, and the review process. This amendment may impact the contents of proposals submitted by applicants in response to the July 11, 2008 solicitation; therefore NCERT is returning all proposals and providing applicants the opportunity to amend their proposals in light of the information provided in this notice. All other requirements and information as published in the July 11, 2008 Federal Register notice remain unchanged.

Applicants should read carefully the information provided below before submitting their proposal to ensure that the proposal addresses the objectives and requirements of the program.

National Coastal and Estuarine Research and Technology Program (NCERT) Summary Description: The purpose of this federal funding opportunity is to establish a National Coastal and Estuarine Research and Technology (NCERT) Program that operates in partnership with the National Estuarine Research Reserve System. Through a cooperative agreement with NOAA's Estuarine Reserves Division (ERD), a National Program will be established to support collaborative research and partnerships with and among the NERRS. The intent is that the NCERT Program will facilitate the transformation of the best available science into practical innovative tools that coastal managers can use to detect, prevent, and reverse the impacts of coastal pollution and habitat degradation. Additionally, this National Program will provide coastal and estuarine managers with a better understanding of what tools are available, how well they work, and how best to apply them. This solicitation is not intended to provide directed funding for individual research projects or short term activities focused on solving local coastal and estuarine problems.

Program Priorities: Critical issues identified as program priorities for a successful NCERT Program include:

• The ability to foster targeted, multidisciplinary, collaborative research to understand the impacts of human activities on coasts and estuaries and develop, demonstrate and apply tools and technologies that can be used to detect, prevent, or reverse impacts;

• An explicit plan to use the system of 27 National Estuarine Research Reserves as living laboratories for research and development of science-based solutions to coastal pollution and habitat degradation;

• A plan to develop, demonstrate, and deliver effective and affordable technological solutions to address coastal management challenges;

• The capacity to catalyze collaboration across geographic and organizational boundaries, bringing local, State, and Federal government, academia, cooperative institutes, and the private sector together to work on solutions to coastal and estuarine environmental problems;

• The capacity to evaluate the barriers to the development and use of coastal and estuarine environmental technologies, and to identify ways to eliminate or overcome these barriers; and

• An integrated programmatic focus on estuarine and coastal management issues and priorities such as: Land use, habitat restoration and change, estuarine contamination, storm water management and contamination.

Funding Availability: Funding is contingent upon the availability of Federal appropriations. NOAA's Estuarine Reserves Division anticipates up to $5,232,000 will be available annually, for five years, to fund a National Coastal and Estuarine Research and Technology Program under this competition. Therefore, total funding over the five-year period is anticipated to be up to $26,160,000, depending on the availability of Federal funds.

Applicants are hereby given notice that funds have not yet been appropriated for this program. In no event will NOAA or the Department of Commerce be responsible for proposal preparation costs if this program fails to receive funding or is cancelled because of other agency priorities. There is no guarantee that sufficient funds will be available to make awards for all qualified projects. Publication of this notice does not oblige NOAA to award any specific project or program or to obligate any available funds. If one incurs any costs prior to receiving an award agreement signed by an authorized NOAA official, one would do so solely at one's own risk of these costs not being included under the award. Recipients and subrecipients are subject to all Federal laws and agency policies, regulations and procedures applicable to Federal financial assistance awards. Statutory Authority: Section 310 of the Coastal Zone Management Act of 1972, as amended, 16 U.S.C. 1456c. Catalog of Federal Domestic Assistance (CFDA) Number: 11.419, Coastal Zone Management Administration Awards. Application Deadline: December 8, 2008.

No facsimile or electronic mail applications will be accepted. Address for Submitting Proposals: Applications must be submitted through http://www.grants.gov, unless an applicant does not have Internet access. In that case, hard copies with original signatures may be sent to: Marie Bundy, 1305 East-West Highway, N/ORM5, SSMC4 10542, Silver Spring, MD 20910. Facsimile transmissions and electronic mail submission of full proposals will not be accepted.

Review and Selection Process: Once a full application has been received by NOAA, an initial administrative review will be conducted to determine completeness of the application. All proposals will be evaluated and scored individually in accordance with the assigned weights of the evaluation criteria by three merit reviewers and/or a panel of reviewers.

The selecting official will not score proposals as part of the merit review nor participate in discussion of the merits of the proposal.

Recommendations for funding will then be forwarded to the selecting official, the Chief of the Estuarine Reserves Division, for the final funding decision. In making the final selections, the Chief will award in rank order unless the proposal is justified to be selected out of rank order based on the selection factors listed in section V.C “Selection Criteria” of the original Federal Funding Opportunity.

Investigators may be asked to modify objectives, work plans or budgets based on funds available, and provide supplemental information required by the agency prior to the award being made. Declined applications will be held in the OCRM/ERD for the required 3 years in accordance with the current retention requirements, and then destroyed.

Agency Contacts: Technical Information: Marie Bundy, OCRM/ERD Research Coordinator, Marie.Bundy@noaa.gov, 301-713-3155. Business Management Information: Marie Bundy, OCRM/ERD Research Coordinator, Marie.Bundy@noaa.gov, 301-713-3155.

Eligibility: Eligible applicants are non-Federal institutions of higher education, other non-profits, commercial organizations, and state and local governments that possess the statutory authority to receive financial assistance. Please note that: (1) The Office of Ocean and Coastal Resource Management, Estuarine Reserves Division (OCRM/ ERD) will not fund any Federal Full Time Employee (FTE) salaries, but will fund travel, equipment, supplies, and contractual personnel costs associated with the proposed work. (2) Researchers must be employees of an eligible entity listed above; and proposals must be submitted through that entity. Non-Federal researchers should comply with their institutional requirements for proposal submission. (3) OCRM/ERD will accept proposals that include foreign researchers as collaborators with a researcher who has met the above stated eligibility requirements.

Cost Sharing Requirements: None.

Intergovernmental Review: Applications under this program are not subject to Executive Order 12372, “Intergovernmental Review of Federal Programs.”

Paperwork Reduction Act: This document contains collection-of-information requirements subject to the Paperwork Reduction Act (PRA). The use of Standard Forms 424, 424A, 424B, 424C, 424D, and SF-LLL has been approved by OMB under the respective control numbers 4040-0004, 0348-0044, 4040-0007, 0348-0041, 4040-0009, and 0348-0046. Notwithstanding any other provision of law, no person is required to respond to, nor shall any person be subject to a penalty for failure to comply with, a collection of information subject to the requirements of the PRA unless that collection of information displays a currently valid OMB control number.

Executive Order 12866: This notice has been determined to be not significant for purposes of Executive Order 12866. Executive Order 13132 (Federalism). It has been determined that this notice does not contain policies with Federalism implications as that term is defined in Executive Order 13132.

Administrative Procedure Act/Regulatory Flexibility Act: Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

FOR FURTHER INFORMATION CONTACT: Marie Bundy at (301) 713-3155 of NOAA's National Ocean Service, Estuarine Reserves Division, 1305 East-West Highway, N/ORM5, 10th floor, Silver Spring, MD 20910.

Dated: October 21, 2008.
Donna Wieting,
Deputy Director, Office of Ocean and Coastal Resource Management, National Oceanic and Atmospheric Administration.

[FR Doc. E8-25578 Filed 10-27-08; 8:45 am]

BILLING CODE 3510-08-P